COMMISSION ON CIVIL RIGHTS

Notice of Public Meetings of the Puerto Rico Advisory Committee to the U.S. Commission on Civil Rights; Corrections

AGENCY: Commission on Civil Rights.

ACTION: Notice: corrections.

SUMMARY: The Commission on Civil Rights published a notice in the Federal Register of Thursday, January 26, 2023, concerning a meeting of the Puerto Rico Advisory Committee. The notice is in the Federal Register of Thursday, January 26, 2023, in FR Doc. 2023-01513, in the second and third columns of page 4965. The document contained incorrect Zoom information. The correct Zoom information is as follows:

DATES: February 13, 2023, Monday, at 3:30 p.m. (AT):

ADDRESSES: Meeting will be held via Zoom.

Meeting Link (Audio/Visual): https://tinyurl.com/4fa77wme; password, if needed: USCCR-PR

Join by Phone (Audio Only): 1-551-285-1373; Meeting ID: 161 911 8291#

FOR FURTHER INFORMATION CONTACT: Victoria Moreno, at vmoreno@usccr.gov or by phone at 434-515-0204.

Dated: February 6, 2023.
David Mussatt,
Supervisory Chief, Regional Programs Unit.

[FR Doc. 2023-02775 Filed 2-8-23; 8:45 am]

BILLING CODE P